DEPARTMENT OF THE INTERIOR

National Park Service

[NPS-WASO-NAGPRA-NPS0032450; PPWOCRADN0-PCU00RP14.R50000]

Notice of Inventory Completion: U.S. Department of the Interior, Bureau of Indian Affairs, Washington, DC

AGENCY: National Park Service, Interior.

ACTION: Notice.

SUMMARY: The U.S. Department of the Interior, Bureau of Indian Affairs (BIA), assisted by the University of Montana, has completed an inventory of human remains in consultation with the appropriate Indian Tribes or Native Hawaiian organizations, and has determined that there is a cultural affiliation between the human remains and present-day Indian Tribes or Native Hawaiian organizations. Lineal descendants or representatives of any Indian Tribe or Native Hawaiian organization not identified in this notice who wish to request transfer of control of these human remains should submit a written request to the BIA through the University of Montana. If no additional requestors come forward, transfer of control of the human remains to the lineal descendants, Indian Tribes, or Native Hawaiian organizations stated in this notice may proceed.

DATES: Lineal descendants or representatives of any Indian Tribe or Native Hawaiian organization not identified in this notice who wish to request transfer of control of these human remains should submit a written request with information in support of the request to the BIA through the University of Montana at the address in this notice by September 24, 2021.

FOR FURTHER INFORMATION CONTACT: Dr. Kelly Dixon, University of Montana, Missoula, MT 59812, telephone (406) 243-2693, email kelly.dixon@mso.umt.edu.

SUPPLEMENTARY INFORMATION: Notice is here given in accordance with the Native American Graves Protection and Repatriation Act (NAGPRA), 25 U.S.C. 3003, of the completion of an inventory of human remains under the control of the U.S. Department of the Interior, Bureau of Indian Affairs, Washington, DC and in the physical custody of the University of Montana, Missoula, MT. The human remains were removed from the Blackfeet Reservation, Glacier County, MT.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made on behalf of the BIA by the University of Montana professional staff in consultation with representatives of the Blackfeet Tribe of the Blackfeet Indian Reservation of Montana.

History and Description of the Remains

On or before 1985, human remains representing, at minimum, one individual were removed from Glacier County, MT. In 1985, an adult female cranium was received by the University of Montana from the Montana Division of Forensic Sciences. The cranium (UMAFC #38) was heavily weathered, suggesting it had lain on the ground surface for an extended period. The Montana Division of Forensic Sciences (MDFS) could find no additional information about the specific location of the removal of the human remains or the circumstances of MDFS's acquisition and transfer of the human remains to the University of Montana. No known individual was identified. No associated funerary objects are present.

Glacier County is a sparsely populated region that lies within the Blackfeet Reservation. Historic human remains found in this area most likely are culturally affiliated with the Blackfeet Tribe.

Determinations Made by the U.S. Department of the Interior, Bureau of Indian Affairs and University of Montana

Officials of the U.S. Department of the Interior, Bureau of Indian Affairs and University of Montana have determined that:

• Pursuant to 25 U.S.C. 3001(9), the human remains described in this notice represent the physical remains of one individual of Native American ancestry.

• Pursuant to 25 U.S.C. 3001(2), there is a relationship of shared group identity that can be reasonably traced between the Native American human remains and the Blackfeet Tribe of the Blackfeet Indian Reservation of Montana.

Additional Requestors and Disposition

Lineal descendants or representatives of any Indian Tribe or Native Hawaiian organization not identified in this notice who wish to request transfer of control of these human remains should submit a written request with information in support of the request to Dr. Kelly Dixon, University of Montana, Missoula, MT 59812, telephone (406) 243-2693, email kelly.dixon@mso.umt.edu, by September 24, 2021. After that date, if no additional requestors have come forward, transfer of control of the human remains to the Blackfeet Tribe of the Blackfeet Indian Reservation of Montana may proceed.

The U.S. Department of the Interior, Bureau of Indian Affairs, assisted by the University of Montana, is responsible for notifying the Blackfeet Tribe of the Blackfeet Indian Reservation of Montana that this notice has been published.

Dated: August 11, 2021.
Melanie O'Brien,
Manager, National NAGPRA Program.

[FR Doc. 2021-18267 Filed 8-24-21; 8:45 am]

BILLING CODE 4312-52-P